DEPARTMENT OF HEALTH AND HUMAN SERVICES

Substance Abuse and Mental Health Services Administration

Center for Substance Abuse Prevention; Notice of Meeting

Pursuant to Pub. L. 92-463, notice is hereby given of the meeting of the Substance Abuse and Mental Health Services Administration (SAMHSA) Drug Testing Advisory Board to be held in March 2005.

The Drug Testing Advisory Board meeting will be open and will include a Department of Health and Human Services drug testing program update, a Department of Transportation drug testing program update, and a Nuclear Regulatory Commission drug testing program update. Attendance by the public will be limited to space available. Public comments are welcome. Please communicate with the individual listed as contact below to make arrangements to comment or to arrange special accommodations for persons with disabilities.

The Board will also meet to develop the analytical and administrative policies for the final Revisions to the Mandatory Guidelines for Federal Workplace Drug Testing Program that were published as proposed revisions in the Federal Register on April 13, 2004 (69 FR 19673). The submissions from 285 commentors have been made available to the public on the Web site http://workplace.samhsa.gov. This meeting will be conducted in closed session since discussing such public comments in open session and then developing the policies will significantly frustrate the Department's ability to develop the Final Notice of Revisions to the Mandatory Guidelines for Federal Workplace Drug Testing Programs. The HHS Office of General Counsel made the determination that such matters are protected by exemption 9(B) of section 552b(c) of title 5 U.S.C. and therefore may be closed to the public.

To facilitate entering the building for the open session, public attendees are required to contact Mrs. Giselle Hersh, Division of Workplace Programs, 1 Choke Cherry Road, Room 2-1042, Rockville, MD 20857, 240-276-2605 (telephone), or write to Giselle.Hersh@samhsa.hhs.gov. A roster of the Board members, the transcript of the open session, and the minutes of the meeting will be available on the following Web site: http://workplace.samhsa.gov as soon as possible after the meeting. Additional information for this meeting may be obtained by contacting the individual listed below.

Committee Name: Substance Abuse and Mental Health Services, Administration Drug Testing Advisory Board.

Meeting Date: March 9, 2005; 8:30 a.m.-4:30 p.m.; March 10, 2005; 8:30 a.m.-4:30 p.m.

Place: SAMHSA Building, 1 Choke Cherry Road, Sugarloaf Room, Rockville, Maryland 20850.

Type: Open: March 9, 2005; 8:30 a.m.-9:30 a.m.

Closed: March 9, 2005; 9:30 a.m.-4:30 p.m.

Closed: March 10, 2005; 8:30 a.m.-4:30 p.m.

FOR FURTHER INFORMATION CONTACT: Donna M. Bush, Ph.D., Executive Secretary 1 Choke Cherry Road, Room 2-1035, Rockville, Maryland 20857, E-mail: Donna.Bush@samhsa.hhs.gov, 240-276-2600 (telephone) or 240-276-2610 (fax).

Dated: February 22, 2005.
Toian Vaughn,
Committee Management Officer, Substance Abuse and Mental Health Services Administration.

[FR Doc. 05-3748 Filed 2-25-05; 8:45 am]

BILLING CODE 4162-20-P